POSTAL SERVICE

Limited Exception to the Postal Service's Voter Registration Regulations

ACTION: Notice.

SUMMARY: The Postal Service is publishing notice that it is providing a temporary exception to postal regulations in 39 CFR 232.1, which prescribe the conditions under which voter registration may take place on postal property. Specifically, we are providing a limited exception to the requirement in 39 CFR 232.1(h)(4)(viii) that confines registration activities to an “appropriate period before an election.”

DATES: The exception is effective when published in the Postal Bulletin (issue 22083) on September 5, 2002.

ADDRESSES: You can view the Postal Bulletin article online at http://www.usps.com/cpim/ftp/bulletin/pb.htm.

FOR FURTHER INFORMATION CONTACT: Susan Koetting, 202-268-4818.

SUPPLEMENTARY INFORMATION:

Questions and Answers About the Temporary Exception

The Postal Service is providing a temporary exception to the requirement in 39 CFR 232.1(h)(4)(viii) that confines registration activities to an “appropriate period before an election.” Information about the exception is provided as follows in a question-and-answer format:

Why Is the Postal Service Providing the Exception?

Beginning in September 2002 and continuing for a little over 2 years, the Postal Service is participating in the Declaration of Independence Road Trip (Road Trip), a nonpartisan public information and voter registration campaign. The Postal Service is mainly participating in this event by transporting one of the original broadsheets of the Declaration of Independence between display locations around the nation. Although most of the activities associated with the Road Trip will not be held on postal property, it is possible that some might. Any voter registration activities associated with the Road Trip that take place on postal property must comply with the Postal Service's voter registration regulations, except that for the purposes of the Road Trip only, the Postal Service will not require associated voter registration activities that may take place on postal property to be “limited to an appropriate period before an election.”

How Long Will the Exception Be in Effect?

The Postal Service has allowed a temporary exception to 39 CFR 232.1(h)(4)(viii) through November of 2004, which is the scheduled end of the Road Trip.

Does the Exception Affect All of the Regulations Concerning Conduct on Postal Property?

No. The exception applies only to the single provision in 39 CFR 232.1(h)(4)(vii), which limits registration activities to “an appropriate period before an election.” The exception only applies to activities related to the Road Trip. All other voter registration activities that may take place on postal property must comply with the Postal Service's voter registration regulations as written in 39 CFR 232.1(h)(4)(viii).

Who Should I Contact for More Information About the Exception?

For more information about the exception, contact Susan Koetting at 202-268-4818.

Stanley F. Mires,
Chief Counsel, Legislative.

[FR Doc. 02-23610 Filed 9-16-02; 8:45 am]

BILLING CODE 7710-12-P